DEPARTMENT OF COMMERCE

National Oceanic and Atmospheric Administration

RIN: 0648-XI84

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene a meeting of the American Samoa Archipelago Advisory Panel and a meeting of the American Samoa Archipelago Plan Team in Pago Pago, American Samoa. The Council will also convene a public scoping meeting to solicit comments on minimizing sea turtles interactions in the American Samoa pelagic longline fishery.

DATES: The meeting date for the public scoping meeting on minimizing sea turtles interactions in the American Samoa pelagic longline fishery will be Monday, July 21, 2008. The meeting date for the American Samoa Archipelago Advisory Panel will be Tuesday, July 22, 2008. The meeting dates for the American Samoa Archipelago Plan Team will be Wednesday, July 23, 2008 and Thursday July 24, 2008. For the specific date, time, and agenda for each meeting, see SUPPLEMENTARY INFORMATION.

ADDRESSES: All meetings will be held at the Utulei Convention Center in Pago Pago, American Samoa.

FOR FURTHER INFORMATION CONTACT: Kitty M. Simonds, Executive Director; telephone: (808) 522-8220.

SUPPLEMENTARY INFORMATION:

Monday, July 21, 2008, 6 p.m. - 9 p.m.

Public Scoping Meeting

U.S. pelagic longline fisheries in the Western Pacific accidentally catch small numbers of sea turtles, all species of which are listed under the Endangered Species Act. The Endangered Species Act permits a limited take of sea turtles through a Biological Opinion or BiOp, which is prepared by the NMFS. The most recent BiOp which includes the American Samoa pelagic longline fishery was published in 2004. The level of turtle interactions in the American Samoa pelagic longline fishery has been estimated to be higher than specified in the 2004 Biological Opinion. During the 18-month period from April 2006 to September 2007, 7.6 percent of the sets deployed by this fishery were monitored by observers, and four green sea turtle interactions were reported by the observers. All four green turtles were dead when brought aboard, or died before being released. A fifth turtle was observed taken recently in 2008, and was also dead on retrieval. The NMFS Pacific Islands Region Office (PIRO) is preparing to draft a new BiOp for the American Samoa fishery, which consider measures to reduce the potential for further interactions between longlines and sea turtles. NMFS PIRO has suggested that the Council consider taking action to reduce turtle takes in the fishery, and which could be included in the BiOp analyses. Solutions that have been proposed by NMFS include requiring hooks to be set at least 100 meters deep, requiring the use of 45 gram or heavier weights on branch lines within 1 meter from each hook, requiring the use of longer float lines, restricting hook deployment to an appropriate distance away from either side of floats, requiring the use of the largest practical whole fish bait with the hook point covered, requiring the use of 16/0 or larger circle hooks with greater than 10 degree offset. Longline fishers in American Samoa may also have suggestions for measures that could reduce sea turtle interactions with longlines. The Council is convening the meeting in American Samoa to brief fishers on the forthcoming BiOp and to take comments on potential measures from longline fishers in addition to those listed above.

Tuesday, July 22, 2008, 4 p.m. - 9 p.m.

American Samoa Archipelago Advisory Panel

1. Status Report on 2007 Advisory Panel Recommendations

2. Emerging Fishery Issues and Fisheries Development

3. Update on Magnuson-Stevens Act Reauthorization Provisions

a. Annual Catch Limits (ACLs)

b. Marine Recreational Information Program (MRIP)

c. Cooperative Research

4. Pelagic Fisheries Management

a. Update on Longline Permit Application Process

b. Bycatch Reduction of Sea Turtles

5. Other Fishery/Management Related Issues

a. Barter, Trade and Subsistence Issues

b. Council Five Year Research Priorities

c. Community Development Program (CDP) Options

6. Public Comments

7. Discussion and Recommendation

Wednesday, July 23, 2008, 9 a.m. - 5 p.m.

American Samoa Archipelago Plan Team

1. Update on Magnuson-Stevens Act Reauthorization Provisions

a. Annual Catch Limits

b. Marine Recreational Information Program (MRIP)

c. Cooperative Research

2. Pelagic Fisheries Management

a. Update on Pelagic Longline Permit Application Process

b. Bycatch Reduction of Sea Turtles

3. Other Fishery/Management Related Issues

a. Barter, Trade and Subsistence Issues

b. Council Five Year Research Priorities

c. Community Development Program (CDP) Options

4. Public Comments

5. Discussion and Recommendation

6. Review of Annual Report Module for American Samoa

a. Bottomfish

b. Coral Reef

c. Precious Corals

d. Crustaceans

Thursday, July 24, 2008, 9 a.m. - 5 p.m.

American Samoa Archipelago Plan Team

1. Review of Annual Report Module for American Samoa

a. Bottomfish

b. Coral Reef

c. Precious Corals

d. Crustaceans

2. Update on Coral Reef Fishing Local Action Strategy

3. Public Comments

4. Discussion and Recommendations

The order in which agenda items are addressed may change. Public comment periods will be provided throughout each agenda. The Advisory Panel and Plan Team will meet as late as necessary to complete scheduled business.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: July 1, 2008.
Tracey L. Thompson,
Acting Director, Office of Sustainable Fisheries, National Marine Fisheries Service.

[FR Doc. E8-15240 Filed 7-3-08; 8:45 am]

BILLING CODE 3510-22-S